DEPARTMENT OF HOMELAND SECURITY

Federal Emergency Management Agency

44 CFR Part 65

Changes in Flood Elevation Determinations

AGENCY: Federal Emergency Management Agency (FEMA), Emergency Preparedness and Response Directorate, Department of Homeland Security.

ACTION: Final rule.

SUMMARY: Modified Base (1% annual chance) Flood Elevations (BFEs) are finalized for the communities listed below. These modified elevations will be used to calculate flood insurance premium rates for new buildings and their contents.

EFFECTIVE DATES: The effective dates for these modified BFEs are indicated on the following table and revise the Flood Insurance Rate Map(s) (FIRMs) in effect for each listed community prior to this date.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below of modified BFEs for each community listed. These modified elevations have been published in newspapers of local circulation and ninety (90) days have elapsed since that publication. The Mitigation Division Director of the Emergency Preparedness and Response Directorate has resolved any appeals resulting from this notification.

The modified BFEs are not listed for each community in this notice. However, this rule includes the address of the Chief Executive Officer of the community where the modified base flood elevation determinations are available for inspection.

The modifications are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

These modified elevations are used to meet the floodplain management requirements of the NFIP and are also used to calculate the appropriate flood insurance premium rates for new buildings built after these elevations are made final, and for the contents in these buildings.

The changes in BFEs are in accordance with 44 CFR 65.4.

National Environmental Policy Act

This rule is categorically excluded from the requirements of 44 CFR Part 10, Environmental Consideration. No environmental impact assessment has been prepared.

Regulatory Flexibility Act

The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, floodplains, reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Connecticut:
Fairfield, (FEMA Docket No. D-7539) | Town of Greenwich | Apr. 9, 2003, Apr. 16, 2003, Greenwich Time | Mr. Richard Bergstresser, Town of Greenwich First Selectman, Town Hall, 101 Field Point Road, Greenwich, Connecticut 06830 | Apr. 1, 2003 | 090008 C
New Haven, (FEMA Docket No. D-7539) | City of West Haven | Apr. 4, 2003, Apr. 11, 2003, New Haven Register | The Honorable H. Richard Borer, Jr., Mayor of the City of West Haven, West Haven City Hall, 355 Main Street, West Haven, Connecticut 06516 | Jul. 11, 2003 | 090092 C
Florida:
Volusia, (FEMA Docket No. D-7539) | City of Daytona Beach | Mar. 28, 2003, Apr. 4, 2003, Dayton Beach News-Journal | The Honorable Baron Asher, Mayor of the City of Daytona Beach, P.O. Box 2451, Daytona Beach, Florida 32115 | Mar. 20, 2003 | 125099 G
Duval, (FEMA Docket No. D-7539) | City of Jacksonville | Apr. 16, 2003, Apr. 23, 2003, The Florida Times-Union | The Honorable John A. Delaney, Mayor of the City of Jacksonville, 117 West Duval Street, Suite 400, Jacksonville, Florida 32202 | Apr. 4, 2003 | 120077 F
Polk, (FEMA Docket No. D-7539) | City of Lakeland | Apr. 18, 2003, Apr. 25, 2003, The Ledger | The Honorable Ralph Fletcher, Mayor of the City of Lakeland, Lakeland City Hall, 228 South Massachusetts Avenue, Lakeland, Florida 33801-5086 | Apr. 10, 2003 | 120267 F
Broward, (FEMA Docket No. D-7539) | City of Parkland | Apr. 10, 2003, Apr. 17, 2003, The Sun-Sentinel | The Honorable Sal Pagliara, Mayor of the City of Parkland, 6600 University Boulevard, Parkland, Florida 33067 | Jul. 17, 2003 | 120051 F
Polk, (FEMA Docket No. D-7539) | Unicorporated areas | Apr. 10, 2003, Apr. 17, 2003, The Ledger | Mr. Jim W. Keene, Polk County Manager, 330 West Church Street, P.O. Box 9005, Drawer CA01, Bartow, Florida 33831-9005 | Jul. 17, 2003 | 12026 F
Indiana: Hamilton, (FEMA Docket No. D-7539) | City of Carmel | Apr. 21, 2003, Apr. 28, 2003, The Indianapolis Star | The Honorable James Brainard, Mayor of the City of Carmel, One Civic Square, Carmel, Indiana 46032 | Jul. 28, 2003 | 180081 F
Maine: Hancock, (FEMA Docket No. D-7539) | Town of Bar Harbor | Apr. 17, 2003, Apr. 24, 2003, Bar Harbor News | Ms. Dana Reed, Bar Harbor Town Manager, 93 Cottage Street, Bar Harbor, Maine 04609 | Apr. 4, 2003 | 230064 E
Michigan: Kent, (FEMA Docket No. D-7539) | Township of Plainfield | Apr. 18, 2003, Apr. 25, 2003, The Grand Rapids Press | Mr. David Groenleer, Township of Plainfield Supervisor, 616 Belmont Avenue, NE, Belmont, Michigan 49306 | Apr. 8, 2003 | 260109 B
Pennsylvania: Montgomery, (FEMA Docket No. D-7539) | Borough of Hatboro | Mar. 31, 2003, Apr. 7, 2003, The Intelligencer | Mr. Joseph F. Pantano, Borough of Hatboro Manager, 414 South York Road, Hatboro, Pennsylvania 19040 | Jul. 7, 2003 | 420697 D
Virginia: Independent City, (FEMA Docket No. D-7539) | City of Colonial Heights | Apr. 4, 2003, Apr. 11, 2003, Progress Index | Mr. Robert Lee Taylor, City of Colonial Heights Manager, P.O. Box 3401, Colonial Heights, Virginia 23834 | Mar. 25, 2003 | 510039 C
Independent City, (FEMA Docket No. D-7539) | City of Petersburg | Apr. 4, 2003, Apr. 11, 2003, Progress Index | Mr. B. David Canada, City of Petersburg Manager, 135 North Union Street, Petersburg, Virginia 23803 | Mar. 25, 2003 | 510112 B

(Catalog of Federal Domestic Assistance No. 83.100, “Flood Insurance.”)
Dated: December 18, 2003.
Anthony S. Lowe,
Mitigation Division Director, Emergency Preparedness and Response Directorate.

[FR Doc. 04-160 Filed 1-5-04; 8:45 am]

BILLING CODE 9110-12-P